DEPARTMENT OF LABOR

Occupational Safety and Health Administration

Advisory Committee on Construction Safety and Health; Notice of Meeting

AGENCY: Occupational Safety and Health Administration (OSHA), Labor.

ACTION: Notice of a meeting of the Advisory Committee on Construction Safety and Health (ACCSH).

SUMMARY: ACCSH will meet October 11-12, 2006, in Washington, DC. This meeting is open to the public.

Time and Date: ACCSH will meet from 8 a.m. to 5 p.m., Wednesday and Thursday, October 11-12, 2006.

Place: ACCSH will meet in Room N-3437 A/B/C of the Frances Perkins Building, U.S. Department of Labor, 200 Constitution Avenue, NW., Washington, DC 20210.

FOR FURTHER INFORMATION CONTACT: For general information about ACCSH and ACCSH meetings: Michael Buchet, OSHA, Directorate of Construction, Room N-3468, U.S. Department of Labor, 200 Constitution Avenue, NW., Washington, DC 20210; telephone (202)-693-2020. For information about submitting comments or requests to speak, and for special accommodations for the meeting: Veneta Chatmon, OSHA, Office of Communications, Room N-3647, U.S. Department of Labor, 200 Constitution Avenue, NW., Washington, DC 20210; telephone (202) 693-1999.

SUPPLEMENTARY INFORMATION: ACCSH will meet October 11-12, 2006, in Washington, DC. The agenda for this meeting includes:

• Welcoming Remarks—OSHA, Office of the Assistant Secretary.

• Remarks—OSHA, Directorate of Construction.

• Standards Update: Hexavalent Chromium, Silica, Assigned Protection Factors.

• ACCSH consideration of draft proposed rules: Cranes and Derricks, Respirator Qualitative Fit-Test Protocol.

• Committee governance and work group assignments/tasks.

• OSHA's role in the National Response Plan, a comprehensive all-hazards approach to enhance the ability of the United States to manage domestic incidents.

• Cooperative Programs Update—Highlighting Voluntary Protection Programs for Construction (VPP-C).

• Public Comment. (During this period, members of the public may address ACCSH about construction-related safety and health issues. See information below to request time before the committee.)

All ACCSH meetings, as well as those of its work groups, are open to the public. For access to the official record of ACCSH meetings, go to OSHA's Web page at http://www.osha.gov. The record is also available for inspection and copying at the OSHA Docket Office, Room N-2625, U.S. Department of Labor, 200 Constitution Avenue, NW., Washington, DC 20210; telephone (202) 693-2350 (OSHA's TTY number is (877) 899-5627). Electronic copies of this Federal Register notice, as well as information about ACCSH work groups and other relevant documents, are available on OSHA's Web page.

Interested parties may request to make an oral presentation to ACCSH by notifying Ms. Chatmon before the meeting at the address above. The request must state the amount of time desired, the interest represented by the presenter (e.g., the name of the business or organization), if any, and a brief outline of the presentation. Alternately, at the meeting, attendees may request to address ACCSH by signing the public comment request sheet and listing the interests they represent (e.g., the name of the businesses or organizations) and topics to be addressed. Requests to present to or address the committee may be granted at the ACCSH Chair's discretion and as time permits.

Attendees and interested parties may also submit written data, views, or comments, preferably with 20 copies, to Ms. Chatmon at the address above or at the ACCSH meeting. OSHA will provide submissions to ACCSH members and will include the submissions in the record of the meeting.

Individuals needing special accommodations for the ACCSH meeting should contact Ms. Chatmon by October 2, 2006.

ACCSH Work Groups

ACCSH Work Groups will not meet in conjunction with this ACCSH meeting. For further information on ACCSH work group meetings or participating in them, please contact Michael Buchet at the address above or look at the ACCSH page on OSHA's Web page.

Authority and Signature: Edwin G. Foulke, Jr., Assistant Secretary of Labor for Occupational Safety and Health, directed the preparation of this notice under the authority granted by section 7 of the Occupational Safety and Health Act of 1970 (29 U.S.C. 656), section 107 of the Contract Work Hours and Safety Standards Act (Construction Safety Act) (40 U.S.C. 3701 et seq.), and Secretary of Labor's Order No. 5-2002 (67 FR 65008).

Signed at Washington, DC, this 6th day of September 2006.
Edwin G. Foulke, Jr.,
Assistant Secretary of Labor.

[FR Doc. E6-15023 Filed 9-11-06; 8:45 am]

BILLING CODE 4510-26-P